DEPARTMENT OF COMMERCE

International Trade Administration

[A-475-059]

Notice of Initiation of Antidumping Duty Changed Circumstances Review: Pressure Sensitive Plastic Tape From Italy

AGENCY: Import Administration, International Trade Administration, Department of Commerce.

SUMMARY: In accordance with section 751(b) of the Tariff Act of 1930, as amended, (the Act) and 19 CFR 351.216 (2003), Tyco Adhesives Italia S.p.A. (Tyco) requested that the Department of Commerce (the Department) conduct a changed circumstances review of the antidumping duty order on pressure sensitive plastic tape (PSPT) from Italy. In response to this request, the Department is initiating a changed circumstances review of the above-referenced order.

EFFECTIVE DATE: August 27, 2003.

FOR FURTHER INFORMATION CONTACT: Zev Primor or Maisha Cryor, AD/CVD Enforcement, Group II, Office 4, Import Administration, International Trade Administration, U.S. Department of Commerce, 14th Street and Constitution Avenue, NW, Washington, DC 20230; telephone (202) 482-4114 or (202) 482-5831, respectively.

SUPPLEMENTARY INFORMATION:

Background

On July 3, 2003, Tyco requested that the Department conduct an expedited changed circumstances review of the antidumping duty order on PSPT from Italy pursuant to section 751(b)(1) of the Act and 19 CFR 351.221(c)(3)(ii). Tyco claims to be the successor-in-interest to Manuli Autoadesivi (Manuli), based on its May 8, 2001, purchase of Manuli Tapes¹, and, as such, claims that it is entitled to receive the same antidumping treatment as Manuli.

¹ On December 31, 1999, after merging with another company, Manuli changed its corporate name to Manuli Tapes S.p.A.

Scope of Review

Imports covered by the review are shipments of PSPT measuring 1 3/8 inches in width and not exceeding 4 millimeters in thickness, currently classifiable under items 3919.90.20 and 3919.90.50 of the Harmonized Tariff Schedule of the United States (HTSUS). HTSUS subheadings are provided for convenience and customs purposes. The written description remains dispositive as to the scope of the product coverage.

Initiation of Antidumping Duty Changed Circumstances Review

Pursuant to section 751(b)(1) of the Act, the Department will conduct a changed circumstances review upon receipt of information concerning, or a request from an interested party for a review of, an antidumping duty order which shows changed circumstances sufficient to warrant a review of the order. The information submitted by Tyco regarding a change in ownership of Manuli shows changed circumstances sufficient to warrant a review. See 19 CFR 351.216(c) (2003).

In antidumping duty changed circumstances reviews involving a successor-in-interest determination, the Department typically examines several factors including, but not limited to, changes in: (1) management; (2) production facilities; (3) supplier relationships; and (4) customer base. See Brass Sheet and Strip from Canada: Notice of Final Results of Antidumping Administrative Review, 57 FR 20460, 20462 (May 13, 1992) (Canadian Brass). While no single factor or combination of factors will necessarily be dispositive, the Department generally will consider the new company to be the successor to the predecessor company if the resulting operations are essentially the same as those of the predecessor company. See, e.g., Industrial Phosphoric Acid from Israel: Final Results of Changed Circumstances Review, 59 FR 6944, 6945 (February 14, 1994), and Canadian Brass, 57 FR 20460. Thus, if the record evidence demonstrates that, with respect to the production and sale of the subject merchandise, the new company operates as the same business entity as the predecessor company, the Department may assign the new company the cash deposit rate of its predecessor. See, e.g., Fresh and Chilled Atlantic Salmon from Norway: Final Results of Changes Circumstances Antidumping Duty Administrative Review, 64 FR 9979, 9980 (March 1, 1999). Although Tyco submitted information indicating, allegedly, that, with respect to subject merchandise, it operates in the same manner as its predecessor, that information is unclear and is lacking sufficient supporting documents. See Letter from the Department to Tyco, Re: “Pressure Sensitive Plastic Tape from Italy: Changed Circumstances Review, Supplemental Questionnaire” dated July 10, 2003. Concerning Tyco's request that the Department conduct an expedited antidumping duty changed circumstances review, the Department has determined that it would be inappropriate to expedite this action by combining the preliminary results of review with this notice of initiation, as permitted under 19 CFR 351.221(c)(3)(ii). Because the Department may need to seek additional information, we find that an expedited action is impracticable. Therefore, the Department is not issuing the preliminary results of its antidumping duty changed circumstances review at this time.

The Department will publish in the Federal Register a notice of preliminary results of antidumping duty changed circumstances review, in accordance with 19 CFR 351.221(b)(4) and 19 CFR 351.221(c)(3)(I). This notice will set forth the factual and legal conclusions upon which our preliminary results are based and a description of any action proposed based on those results. Pursuant to 19 CFR 351.221(b)(4)(ii), interested parties will have an opportunity to comment on the preliminary results of review. In accordance with 19 CFR 351.216(e), the Department will issue the final results of its antidumping duty changed circumstances review not later than 270 days after the date on which the review is initiated.

During the course of this antidumping duty changed circumstances review, we will not change the cash deposit requirements for the merchandise subject to review. The cash deposit will only be altered, if warranted, pursuant to the final results of this review. This notice of initiation is in accordance with sections 751(b)(1) of the Act and 19 CFR 351.221(b)(1) of the Department's regulations.

Dated: August 18, 2003.
Jeffrey May,
Acting Assistant Secretary for Import Administration.

[FR Doc. 03-21842 Filed 8-26-03; 8:45 am]

BILLING CODE 3510-DS-S